DEPARTMENT OF THE INTERIOR

U.S. Geological Survey

National Cooperative Geologic Mapping Program (NCGMP) and National Geological and Geophysical Data Preservation Program (NGGDPP) Advisory Committee

AGENCY: U.S. Geological Survey, Interior.

ACTION: Notice of meeting.

SUMMARY: Pursuant to Public Law 106-148, the NCGMP and NGGDPP Advisory Committee will meet on June 22nd and June 23rd, 2011, in room 3A417 of the U.S. Geological Survey Headquarters building, 12201 Sunrise Valley Drive, Reston, Virginia 20192. The Advisory Committee, comprising representatives from Federal agencies, State agencies, academic institutions, and private companies, shall advise the Director of the U.S. Geological Survey on planning and implementation of the geologic mapping and data preservation programs.

The Committee will hear updates on progress of the NCGMP toward fulfilling the purposes of the National Geological Mapping Act of 1992; the Federal, State, and education components of the NCGMP; and the National Geological and Geophysical Data Preservation Program.

DATES: June 22-23, 2011, commencing at 8:30 a.m. on June 22 and adjourning by 5 p.m. on June 23.

FOR FURTHER INFORMATION CONTACT: Stephanie Brown, U.S. Geological Survey, Mail Stop 908, National Center, Reston, Virginia 20192, (703) 648-6948.

SUPPLEMENTARY INFORMATION: Meetings of the National Cooperative Geological Mapping Program and National Geological and Geophysical Data Preservation Program Advisory Committee are open to the Public.

Dated: March 29, 2011.
Kevin T. Gallagher,
Associate Director for Core Science Systems.

[FR Doc. 2011-8400 Filed 4-7-11; 8:45 am]

BILLING CODE 4311-AM-P